DEPARTMENT OF LABOR

Employment and Training Administration

[TA-W-40,899A]

E.J. Footwear LLC, Franklin, Tennessee; Amended Certification Regarding Eligibility To Apply for Worker Adjustment Assistance

In accordance with section 223 of the Trade Act of 1974 (19 U.S.C. 2273) the Department of Labor issued a Notice of Amended Certification Regarding Eligibility To Apply for Worker Adjustment Assistance on July 15, 2002, applicable to workers of E.J. Footwear LLC located in Franklin, Tennessee. The notice was published in the Federal Register on July 24, 2002 (67 FR 48485).

At the request of the State agency, the Department reviewed the certification for workers of the subject firm. Findings on review show that workers of the subject firm were previously certified eligible to apply for TAA under petition TA-W-38,042 which expired on November 2, 2002. The amended certification for TA-W-40,899A established an impact date of October 24, 2000. In order to avoid an overlap in worker group coverage, this certification is being amended to establish a new impacted date of November 3, 2002.

The amended notice applicable to TA-W-40,899A is hereby issued as follows:

All workers of E.J. Footwear LLC, Franklin, Tennessee, who became totally or partially separated from employment on or after November 3, 2002, through April 3, 2004, are eligible to apply for adjustment assistance under section 223 of the Trade Act of 1974.

Signed at Washington, DC this 10th day of February, 2003.
Linda G. Poole,
Certifying Officer, Division of Trade Adjustment Assistance.

[FR Doc. 03-14292 Filed 6-5-03; 8:45 am]

BILLING CODE 4510-30-M